DEPARTMENT OF HOMELAND SECURITY

U.S. Customs and Border Protection

Temporary Mailing Address for the National Commodity Specialist Division, Regulations and Rulings, Office of International Trade

AGENCY: U.S. Customs and Border Protection, Department of Homeland Security.

ACTION: Notice of temporary change of office location.

SUMMARY: The mail room servicing the Director, National Commodity Specialist Division, Regulations and Rulings, in the Office of International Trade, of U.S. Customs and Border Protection is relocating within New York and a temporary location has been established to receive correspondence. Until further notice, beginning on January 28, 2016, non-electronic correspondence should be sent to the Director, National Commodity Specialist Division, Regulations and Rulings, Office of International Trade, 1100 Raymond Boulevard, Newark, New Jersey 07102. Please note that e-rulings procedures will remain the same and will not be affected by the temporary change in office location.

DATES: Effective date: January 28, 2016.

FOR FURTHER INFORMATION CONTACT: Deborah Marinucci, Acting Director, National Commodity Specialist Division, Regulations and Rulings, Office of International Trade, (646) 733-3070.

SUPPLEMENTARY INFORMATION:

Background

The National Commodity Specialist Division (NCSD), Regulations and Rulings, in the Office of International Trade, U.S. Customs and Border Protection (CBP), is relocating. While the relocation process is underway, the address provided for the Director, National Commodity Specialist Division, Regulations and Rulings, in the Office of International Trade, at section 177.2(a) of title 19 of the Code of Federal Regulations (19 CFR 177.2(a)), will be inaccurate. Until the relocation process is complete, a temporary mailing location has been established and all correspondence to the NCSD should be sent to the following address: Director, National Commodity Specialist Division, Regulations and Rulings, Office of International Trade, 1100 Raymond Boulevard, Newark, New Jersey 07102. Mail received at this temporary location will be delivered to the appropriate NCSD location. Please note that e-rulings procedures will remain the same and will not be affected by the temporary change in office location.

When the relocation process is complete and a permanent address is established, CBP will publish in the Federal Register amendments to the regulations to reflect the new mailing address (see 19 CFR 177.2(a)) and announce the cessation of mail forwarding operations through the address provided in this notice.

Dated: January 8, 2016.
Alice A. Kipel,
Executive Director, Regulations and Rulings, Office of International Trade.

[FR Doc. 2016-00622 Filed 1-13-16; 8:45 am]

BILLING CODE 9111-14-P